DEPARTMENT OF ENERGY

Federal Energy Regulatory Commission

Combined Notice of Filings #1

June 3, 2008.

Take notice that the Commission received the following electric corporate filings:

Docket Numbers: EC08-95-000.

Applicants: PDI Stoneman, Inc.; Mid-American Power, LLC; DTE Energy Services, Inc.

Description: Joint Application of PDI Stoneman, Inc, Mid-American Power, LLC and DTE Energy Services, Inc for authorization of proposed transaction under Section 203 of the Federal Power Act etc.

Filed Date: 05/29/2008.

Accession Number: 20080603-0035.

Comment Date: 5 p.m. Eastern Time on Thursday, June 19, 2008.

Take notice that the Commission received the following electric rate filings:

Docket Numbers: ER01-3001-020.

Applicants: New York Independent System Operator, Inc.

Description: Semi-Annual 2007 Compliance Report of New York Independent System Operator, Inc. on Demand Response Programs and New Generation Projects.

Filed Date: 06/02/2008.

Accession Number: 20080602-5144.

Comment Date: 5 p.m. Eastern Time on Monday, June 23, 2008.

Docket Numbers: ER05-1056-004; ER06-1548-002.

Applicants: Chehalis Power Generating, L.P.

Description: Chehalis Power Generating, L.P., Refund Report.

Filed Date: 05/30/2008.

Accession Number: 20080530-5143.

Comment Date: 5 p.m. Eastern Time on Friday, June 20, 2008.

Docket Numbers: ER08-552-001.

Applicants: Niagara Mohawk Power Corporation.

Description: Response to Deficiency Letter of April 30, 2008 of Niagara Mohawk Power Corporation.

Filed Date: 05/30/2008.

Accession Number: 20080530-5121.

Comment Date: 5 p.m. Eastern Time on Friday, June 20, 2008.

Docket Numbers: ER08-837-002.

Applicants: PJM Interconnection, L.L.C.

Description: Amendment to Filing of PJM Interconnection, L.L.C.

Filed Date: 05/30/2008.

Accession Number: 20080530-5114.

Comment Date: 5 p.m. Eastern Time on Friday, June 20, 2008.

Docket Numbers: ER08-971-001.

Applicants: Commonwealth Edison Company, Commonwealth Edison Co. of Indiana, Inc.

Description: Commonwealth Edison Company et al. submits redlined version of the tariff sheets previously submitted on 5/15/08.

Filed Date: 05/30/2008.

Accession Number: 20080603-0032.

Comment Date: 5 p.m. Eastern Time on Friday, June 20, 2008.

Docket Numbers: ER08-1020-000.

Applicants: The Toledo Edison Company.

Description: Toledo Edison Company submits Notice of Cancellation of the Interconnection and Service Agreement Between The Toledo Edison Company and American Municipal Power-Ohio, Inc dated 5/1/89 etc.

Filed Date: 05/29/2008.

Accession Number: 20080602-0115.

Comment Date: 5 p.m. Eastern Time on Thursday, June 19, 2008.

Docket Numbers: ER08-1024-000.

Applicants: Golden Spread Electric Cooperative, Inc.

Description: Golden Spread Electric Cooperative, Inc submits its Eighth Informational Filing setting forth updated fixed costs associated with rates charged for sales of replacement energy pursuant to Rate Schedule 35 etc.

Filed Date: 05/30/2008.

Accession Number: 20080602-0105.

Comment Date: 5 p.m. Eastern Time on Friday, June 20, 2008.

Docket Numbers: ER08-1025-000.

Applicants: The Connecticut Light and Power Company.

Description: Connecticut Light and Power Company submits an Amended Interconnection and Operation Agreement by and between designated as Second Revised Service Agreement.

Filed Date: 05/30/2008.

Accession Number: 20080602-0104.

Comment Date: 5 p.m. Eastern Time on Friday, June 20, 2008.

Docket Numbers: ER08-1026-000.

Applicants: FirstEnergy Service Company.

Description: FirstEnergy Service Company on behalf of The Cleveland Electric Illuminating Company et al. submits Notices of Cancellation of Rate Schedule FERC 26 et al.

Filed Date: 05/30/2008.

Accession Number: 20080602-0103.

Comment Date: 5 p.m. Eastern Time on Friday, June 20, 2008.

Docket Numbers: ER08-1027-000.

Applicants: Ameren Services Company.

Description: Central Illinois Public Service Company submits an executed service agreement for Wholesale Distribution Service with Wabash Valley Power Association, Inc as agent for Enerstar Electric Cooperative et al.

Filed Date: 05/30/2008.

Accession Number: 20080602-0102.

Comment Date: 5 p.m. Eastern Time on Friday, June 20, 2008.

Docket Numbers: ER08-1029-000.

Applicants: Westar Energy, Inc.

Description: Westar Energy, Inc submits a Petition for Approval of Settlement Agreement.

Filed Date: 05/30/2008.

Accession Number: 20080603-0102.

Comment Date: 5 p.m. Eastern Time on Friday, June 20, 2008.

Docket Numbers: ER08-1031-000.

Applicants: Westar Energy, Inc.

Description: Westar Energy, Inc submits Petition for Approval of Settlement Agreement.

Filed Date: 05/30/2008.

Accession Number: 20080603-0101.

Comment Date: 5 p.m. Eastern Time on Friday, June 20, 2008.

Docket Numbers: ER08-1035-000.

Applicants: Westar Energy, Inc.

Description: Westar Energy, Inc submits a Petition for Approval of Settlement Agreement.

Filed Date: 05/30/2008.

Accession Number: 20080603-0099.

Comment Date: 5 p.m. Eastern Time on Friday, June 20, 2008.

Docket Numbers: ER08-1036-000.

Applicants: Westar Energy, Inc.

Description: Westar Energy Inc et al submit Second Revised Sheet 8 and 1 to the Wholesale Electric Service Agreement dated 12/21/87, designated as First Revised Rate Schedule 250 with the City of Burlingame KS.

Filed Date: 05/30/2008.

Accession Number: 20080603-0108.

Comment Date: 5 p.m. Eastern Time on Friday, June 20, 2008.

Docket Numbers: ER08-1037-000.

Applicants: Westar Energy, Inc.

Description: Westar Energy Inc submits Petition for Approval of Settlement Agreement.

Filed Date: 05/30/2008.

Accession Number: 20080603-0109.

Comment Date: 5 p.m. Eastern Time on Friday, June 20, 2008.

Docket Numbers: ER08-1039-000.

Applicants: DPL Energy, LLC.

Description: DPL Energy, LLC submits its proposed FERC Electric Tariff, Original Volume 2 and supporting cost data.

Filed Date: 05/30/2008.

Accession Number: 20080603-0092.

Comment Date: 5 p.m. Eastern Time on Friday, June 20, 2008.

Docket Numbers: ER08-1040-000.

Applicants: Entergy Services, Inc.

Description: Entergy Operating Companies submits a Notice of Termination of Service Agreement 2 with Hodge Utility Operating Company.

Filed Date: 05/30/2008.

Accession Number: 20080603-0091.

Comment Date: 5 p.m. Eastern Time on Friday, June 20, 2008.

Docket Numbers: ER08-1041-000.

Applicants: Entergy Services, Inc.

Description: City of Benton Arkansas et al submit First Revised Service Agreement 466 et al under FERC Electric Tariff, Third Revised Volume 3.

Filed Date: 05/30/2008.

Accession Number: 20080603-0090.

Comment Date: 5 p.m. Eastern Time on Friday, June 20, 2008.

Docket Numbers: ER08-1042-000.

Applicants: Midwest Independent Transmission System.

Description: Midwest Independent Transmission System Operator, Inc submits Notice of Cancellation of the 2006 CRSG Agreement etc.

Filed Date: 05/30/2008.

Accession Number: 20080603-0088.

Comment Date: 5 p.m. Eastern Time on Friday, June 20, 2008.

Docket Numbers: ER08-1043-000.

Applicants: Midwest Independent Transmission System.

Description: Midwest Independent Transmission System Operator Inc submits proposed revisions to Section 40.2.22 (Emergency Energy Assistance) and Section 40.3.3.d (Charges and Credits for Midwest ISO Balancing Authority etc).

Filed Date: 05/30/2008.

Accession Number: 20080603-0087.

Comment Date: 5 p.m. Eastern Time on Friday, June 20, 2008.

Docket Numbers: ER08-1044-000.

Applicants: PJM Interconnection, L.L.C.

Description: PJM Interconnection, LLC submits Transmission Service Agreement between PJM and FirstEnergy Solutions Corp on behalf of FirstEnergy Nuclear Generation Corp for Firm Point-to-Point Transmission Service.

Filed Date: 05/30/2008.

Accession Number: 20080603-0086.

Comment Date: 5 p.m. Eastern Time on Friday, June 20, 2008.

Docket Numbers: ER08-1045-000.

Applicants: Southwest Power Pool, Inc.

Description: Southwest Power Pool, Inc submits Service Agreement for Network Integration Transmission Service between SPP as Transmission Provider and Kansas Power Pool as, Network Customer.

Filed Date: 05/30/2008.

Accession Number: 20080603-0085.

Comment Date: 5 p.m. Eastern Time on Friday, June 20, 2008.

Docket Numbers: ER08-1046-000.

Applicants: Westar Energy, Inc.

Description: Westar Energy, Inc and Kansas Gas and Electric Co submit their Second Revised Sheet 10 and 1 to the Wholesale Electric Service Agreement commencing 2/1/88.

Filed Date: 05/30/2008.

Accession Number: 20080603-0089.

Comment Date: 5 p.m. Eastern Time on Friday, June 20, 2008.

Docket Numbers: ER08-1048-000.

Applicants: Westar Energy, Inc.

Description: Westar Energy, Inc et al submit revised tariff sheets to three existing participation power service agreements with Midwest Energy, Inc etc.

Filed Date: 05/30/2008.

Accession Number: 20080603-0110.

Comment Date: 5 p.m. Eastern Time on Friday, June 20, 2008.

Docket Numbers: ER08-1049-000.

Applicants: MidAmerican Energy Company.

Description: MidAmerican Energy Company submits a single-issue rate and transmission revenue requirement adjustment for their Open Access Transmission Tariff, Schedules 7 and 8 and Attachment H as 2nd Rev Sheet 137 et al.

Filed Date: 05/30/2008.

Accession Number: 20080603-0111.

Comment Date: 5 p.m. Eastern Time on Friday, June 20, 2008.

Docket Numbers: ER08-1052-000.

Applicants: PJM Interconnection, L.L.C.

Description: PJM Interconnection, LLC submits Transmission Service Agreement between PJM and Orion power Midwest, LP for Firm Point-to-Point Transmission Service pursuant to Part II of the PJM Open Access Tariff etc.

Filed Date: 05/30/2008.

Accession Number: 20080603-0113.

Comment Date: 5 p.m. Eastern Time on Friday, June 20, 2008.

Docket Numbers: ER08-1053-000.

Applicants: California Independent System Operator C.

Description: California Independent System Operator Corporation submits proposed amendments to their FERC electric tariffs—both currently effective tariff and the MRTU Tariff etc.

Filed Date: 05/30/2008.

Accession Number: 20080603-0114.

Comment Date: 5 p.m. Eastern Time on Friday, June 20, 2008.

Docket Numbers: ER08-1054-000.

Applicants: Southwest Power Pool, Inc.

Description: Southwest Power Pool Inc submits an executed Service Agreement for Network Integration Transmission Service with Transmission Provider and Kansas Power Pool as Network Customer.

Filed Date: 05/30/2008.

Accession Number: 20080603-0115.

Comment Date: 5 p.m. Eastern Time on Friday, June 20, 2008.

Docket Numbers: ER08-1055-000.

Applicants: Midwest Independent Transmission System.

Description: Midwest Independent Transmission System Operator Inc submits an Amended and Restates Midwest Contingency Reserve Sharing Group Agreement.

Filed Date: 05/30/2008.

Accession Number: 20080603-0116.

Comment Date: 5 p.m. Eastern Time on Friday, June 20, 2008.

Take notice that the Commission received the following open access transmission tariff filings:

Docket Numbers: OA07-56-003.

Applicants: MidAmerican Energy Company.

Description: MidAmerican Energy Company conform to the Open Access Transmission Tariff to Order Nos. 890 and 890-A regarding rollover rights as required by paragraph 46 of Order issued April 3, 2008.

Filed Date: 06/02/2008.

Accession Number: 20080602-5150.

Comment Date: 5 p.m. Eastern Time on Monday, June 23, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-13035 Filed 6-10-08; 8:45 am]

BILLING CODE 6717-01-P